ENVIRONMENTAL PROTECTION AGENCY

[ER-FRL-6627-6]

Environmental Impact Statements; Notice of Availability

Responsible Agency: Office of Federal Activities, General Information, (202) 564-7167 or www.epa.gov/oeca/ofa.

Weekly receipt of Environmental Impact Statements

Filed March 11, 2002 Through March 15, 2002

Pursuant to 40 CFR 1506.9.

EIS No. 020100, Draft EIS, FHW, MI, I-94 Jackson Freeway Modernization Project, Improvements between Michigan State Route 60 (M-60) and Sargent Road, Funding, NPDES and COE Section 404 Permits, Jackson County, MI, Comment Period Ends: May 06, 2002, Contact: Ronald Hatched (517) 702-1832.

EIS No. 020101, Draft Supplement, AFS, OK, AR, Vegetation Management in the Ozark/Quachita Mountains, Proposal to Clarify Direction for Conducting Project-Level Inventories for Biological Evaluations (BEs), Qzark, Quachita and St. Francis National Forests, AR and McCurtain and LeFlore Counties, OR, Comment Period Ends: May 06, 2002, Contact: Robert Wilhelm (404) 347-7076.

EIS No. 020102, Draft Supplement, AFS, GA, AL, FL, SC, LA, NC, MS, TX, Vegetation Management in the Coastal Plain/ Piedmont, Proposal to Clarify Direction for Conducting Project-Level Inventories for Biological Evaluations (BEs), US Forest Service Southern Region, AL, GA, FL, SC, NC, LA, MS and TX, Comment Period Ends: May 06, 2002, Contact: Robert Wilhelm (404) 347-7076.

EIS No. 020103, Draft Supplement, AFS, AL, GA, KY, NC, SC, TN, VA, WV, Vegetation Management in the Appalachian Mountains, Proposal to Clarify Direction for Conducting Project-Level Inventories for Biological Evaluations (BEs), Al, GA, KY, NC, SC, TN, VA and WV, Comment Period Ends: May 06, 2002, Contact: Robert Wilhelm (404) 347-7076.

EIS No. 020104, Final EIS, NPS, DC, Mary McLeod Bethune Council House National Historic Site, Implementation, General Management Plan, Washington, DC, Comment Period Ends: April 22, 2002, Contact: Diann Jacox (202) 673-2402.

EIS No. 020105, Draft EIS, NPS, MN, Grand Portage National Monument General Management Plan, Implementation, Cook County, MN, Comment Period Ends: May 20, 2002, Contact: Tim Cochrane (218) 387-2788.

EIS No. 020106, Draft EIS, AFS, ID, Mann Creek Vegetation Management and Watershed Restoration Project, Implementation, Payette National Forest, Weiser Ranger District, Washington County, ID, Comment Period Ends May 06, 2002, Contact: Greg Lesch (208) 549-4200. This document is available on the Internet at: http://www.fs.fed.us/r4/payette/main.html.

EIS No. 020107, Draft Supplement, FTA, HI, Oahu Primary Corridor Transportation Project, Updated Information on the Refined Bus Rapid Transit (BRT) Alternative, Major Investment Study, In the City and County of Honolulu, HI, Comment Period Ends: May 07, 2002, Contact: Donna Turchie (415) 744-2737.

EIS No. 020108, Final EIS, AFS, NM, Talpa-to-Penasco Proposed to Construct and Operate 69 kV Transmission Line, Kit Carson Electric Cooperative, Carson National Forest, Camine Real Ranger District, Tasos County, NM, Wait Period Ends: April 22, 2002, Contact: Sher Churchchill (505) 758-6200. This document is available on the Internet at: http://www.fs.fed.us/r3/carson.

EIS No. 020109, Final Supplement, COE, TN, Chickamauga Dam Navigation Project, New and Updated Information concerning Cumulative Effects and Compliance with Section 106 of the Historic Preservation Act, NPDES, US Army COE Section 404 and US Coast Guard Permits Issuance, Tennessee River, Hamilton County, TN, Wait Period Ends: April 22, 2002, Contact: Wayne Easterling (615) 736-7847.

EIS No. 020110, Final EIS, USN, CA, Point Mugu Sea Range Naval Air Warfare Center Weapons Division (NAWCWPWS), Proposes To Accommodate TMD Testing and Training, Additional Training Exercises, Ventura, Los Angeles, Santa Barbara, San Diego and San Luis Obispo Counties, CA, Wait Period Ends: April 22, 2002, Contact: Gina Smith (888) 217-9045.

Amended Notices

EIS No. 020065, Draft EIS, FAA, MD, VA, DC, Potomac Consolidated Terminal (PCT) Radar Approach Control Facility (TRACON), Newly Consolidated four TRACON in Baltimore-Washington Metro Terminal Area, Possible Site is Vint Hill Farms, VA; DC, MD and VA, Comment Period Ends: May 23, 2002, Contact: William Carver (800) 762-9531. Revision of FR Notice Published on 02/22/2002: CEQ Comment Period Ending 05/28/2002 is Corrected to 05/23/2002.

Dated: March 19, 2002.
Joseph C. Montgomery,
Director, NEPA Compliance Division, Office of Federal Activities.

[FR Doc. 02-6981 Filed 3-21-02; 8:45 am]

BILLING CODE 6560-50-P